NATIONAL CREDIT UNION ADMINISTRATION

12 CFR Part 745

Share Insurance and Appendix

CFR Correction

In Title 12 of the Code of Federal Regulations, Parts 600 to 899, revised as of January 1, 2015, on page 876, in subpart B, remove § 745.14.

[FR Doc. 2015-33056 Filed 12-30-15; 8:45 am]

BILLING CODE 1505-01-D